DEPARTMENT OF HOUSING AND URBAN DEVELOPMENT

[Docket No. FR-4950-FA-14]

Housing Opportunities for Persons With AIDS (HOPWA) Program; FY2005 Competitive Grant Announcements

AGENCY: Office of the Assistant Secretary for Community Planning and Development, HUD.

ACTION: Funding awards.

SUMMARY: In accordance with Section 102(a)(4)(C) of the Department of Housing and Urban Development Reform Act of 1989, this notice announces 19 grant awards totaling $18,781,529 from the Department's FY2005 Housing Opportunities for Persons with AIDS (HOPWA) program. The notice announces the selection of 14 permanent supportive housing renewal grants and 5 new transitional housing demonstration grants. This notice makes available the names of the award recipients and grant amounts.

FOR FURTHER INFORMATION CONTACT: David Vos, Director, Office of HIV/AIDS Housing, Department of Housing and Urban Development, 451 Seventh Street, SW., Room 7212, Washington, DC 20410, telephone (202) 708-1934. To provide service for persons who are hearing-or-speech-impaired, this number may be reached via TTY by dialing the Federal Information Relay Service on (800) 877-TTY, (800) 877-8339, or (202) 708-2565. (Telephone number, other than “800” TTY numbers are not toll free.). Information on HOPWA, community development and consolidated planning, and other HUD programs may also be obtained from the HUD Home Page on the World Wide Web. In addition to this competitive selection, 121 jurisdictions received formula based allocations during the 2005 fiscal year for $251.3 million in HOPWA funds. Descriptions of the formula programs may be obtained at http://www.hud.gov/offices/cpd/aidshousing.

SUPPLEMENTARY INFORMATION: The FY2005 SuperNOFA (Notice of Funding Availability) for HUD's Discretionary Grant Programs was published in the Federal Register on March 21, 2005 (70 FR 14109). The NOFA announced the availability of approximately $37 million in HOPWA competitive grant funding. The Department published a second FY2005 HOPWA competition NOFA in the Federal Register on August 22, 2005 (70 FR 48970), for the remaining $18 million in FY2005 funding.

The purpose of the HOPWA NOFA announcement was to solicit applications for three types of HOPWA competitive grants: (1) Renewal of expiring permanent supportive housing projects; (2) awards for new long-term projects for permanent supporting housing from states and units of local government not eligible for HOPWA formula funding; and (3) awards for new Special Projects of National Significance (SPNS) demonstration grants for transitional, short-term, and emergency housing projects. Grant selections were made for renewal projects and SPNS demonstration projects. The competition did not solicit or award any new long-term projects from states and units of local government that do not receive HOPWA formula funding.

The HOPWA assistance made available in this announcement is authorized by the AIDS Housing Opportunity Act (42 U.S.C. 12901), as amended by the Housing and Community Development Act of 1992 (Pub. L. 102-550, approved October 28, 1992) and was appropriated by the HUD Appropriations Act for 2005. The competition was announced in a NOFA published in the Federal Register on March 21, 2005 (66 FR 12223). Each application was reviewed and rated on the basis of selection criteria published in the NOFA.

Public Benefit: The award of HOPWA funds to the 14 renewal and 5 new project awards will contribute towards HUD's mission in providing housing support that results in the provision of safe, decent, and affordable housing for persons living with HIV/AIDS and their families who are at risk of homelessness. The selected projects will provide housing assistance to an estimated 1,084 units/households for low-income persons living with HIV/AIDS and their families. The 19 grant awards total $18,871,529 and the selected grant applicants have reported the commitment of approximately $22.6 million in leveraging of other Federal, State, local, or private resources to provide additional supportive services for project beneficiaries and $4.8 million in leveraging for other project activities.

In accordance with Section 102(a) (4) (C) of the Department of Housing and Urban Development Reform Act of 1989 (103 Stat.1987, 42 U.S.C. 3545), the Department is publishing the details of these funding grant announcements in Appendices A and B.

Dated: November 4, 2005.
Pamela H. Patenaude,
Assistant Secretary for Community Planning and Development.

Appendix A.—Fiscal Year 2005 Funding Awards for HOPWA Permanent Supportive Housing Renewal Grants
Awardee | Address | Amount awarded
Alaska Housing Finance Corporation (AHF C) | P.O. Box 101020, Anchorage, AK 99510 | $757,675
AIDS Alabama Inc | P.O. Box 55703, Birmingham, AL 35255 | 502,679
Alameda County Community Development Department | 224 W. Winton Avenue, Room 108, Hayward, CA 94577 | 1,425,362
Maui AIDS Foundation | 1935 Main Street, Suite 101, Wailuku, HI 96796 | 1,381,120
Pioneer Civic Services, Inc | 1318 S. W. Adams Street, Peoria, IL 61602 | 406,443
AIDS Foundation of Chicago | 411 South Wells Street, Suite 300, Chicago, IL 60607 | 1,132,016
Frannie Peabody Center | 335 Valley Street, Portland, ME 04102 | 990,976
State of New Hampshire Department of Health and Human Services | 105 Pleasant Street, Concord, NH 03301 | 824,120
Bailey House, Inc | 275 Seventh Avenue, 12 Floor, New York, NY, 10001 | 991,478
Greyston Health Services, Inc | 23 Park Avenue, Yonkers, NY 10703 | 1,239,639
Calcutta House, Inc | 1601 W. Girard Avenue, Philadelphia, PA 19130 | 741,268
Tarrant County | 1509-B South University Drive, Suite 276, Fort Worth, TX 76107 | 916,010
State of Vermont (Vermont Housing and Conservation Board) | 149 State Street, Montpelier, VT 05602 | 1,227,657
Spokane County Community Services Division | 312 W. 8th Avenue, Spokane, WA 99210 | 1,151,406
Total |  | 13,687,849

Appendix B.—Fiscal Year 2005 Funding Awards for HOPWA National Projects of Special Significance Transitional Housing Demonstration Grants
Awardee | Address | Grant amount
Health Services Center, Inc | 608 Martin Luther King Drive, P.O. Box 1392, Hobson City, Al 36201 | $572,331
Heartland Human Care Services, Inc. (First Step Program) | 208 S. LaSalle, Suite 1818, Chicago, IL 60604 | 1,339,000
Heartland Human Care Services, Inc. (Housing) | 208 S. LaSalle, Suite 1818, Chicago, IL 60604 | 1,020,510
Odyssey House Louisiana, Inc | 1125 N. Tonti Street, New Orleans, LA 70119. | 1,388,000
City of Dallas | 1500 Marilla 4EN Dallas, TX 75201 | 773,839
Total |  | 5,093,680

[FR Doc. 05-22419 Filed 11-9-05; 8:45 am]

BILLING CODE 4210-29-P